ENVIRONMENTAL PROTECTION AGENCY

[FRL-7844-3]

Clean Water Act Section 303(d): Availability of Total Maximum Daily Loads (TMDL)

AGENCY: Environmental Protection Agency (EPA).

ACTION: Notice of availability.

SUMMARY: This notice announces the availability for comment of the administrative record files for 4 TMDLs and the calculations for these TMDLs prepared by EPA Region 6 for waters listed in the Barataria river basin of Louisiana, under section 303(d) of the Clean Water Act (CWA). These TMDLs were completed in response to a court order in the lawsuit styled Sierra Club, et al. v. Clifford, et al., No. 96-0527 (E.D. La.).

DATES: Comments must be submitted in writing to EPA on or before January 3, 2005.

ADDRESSES: Comments on the 4 TMDLs should be sent to Ellen Caldwell, Environmental Protection Specialist, Water Quality Protection Division, U.S. Environmental Protection Agency Region 6, 1445 Ross Ave., Dallas, TX 75202-2733 or e-mail: caldwell.ellen@epa.gov. For further information, contact Ellen Caldwell at (214) 665-7513 or fax 214.665.6689. The administrative record files for the 4 TMDLs are available for public inspection at this address as well. Documents from the administrative record files may be viewed at http://www.epa.gov/region6/water/tmdl.htm, or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the EPA, styled Sierra Club, et al. v. Clifford, et al., No. 96-0527, (E.D. La.). Among other claims, plaintiffs alleged that EPA failed to establish Louisiana TMDLs in a timely manner. EPA proposes these TMDLs pursuant to a consent decree entered in this lawsuit.

EPA Seeks Comment on 4 TMDLs

By this notice EPA is seeking comment on the following 4 TMDLs for waters located within the Barataria river basin:

Subsegment | Waterbody name | Pollutant
020201 | Bayou Des Allemands—Lac Des Allemands to Hwy. U.S. 90 (scenic) | Dissolved Oxygen.
020201 | Bayou Des Allemands—Lac Des Allemands to Hwy. U.S. 90 (scenic) | Nutrients.
020303 | Lake Cataouatche and Tributaries | Dissolved Oxygen.
020303 | Lake Cataouatche and Tributaries | Nutrients.

EPA requests that the public provide to EPA any water quality related data and information that may be relevant to the calculations for the 4 TMDLs. EPA will review all data and information submitted during the public comment period and revise the TMDLs where appropriate. EPA will then forward the TMDLs to the Louisiana Department of Environmental Quality (LDEQ). The LDEQ will incorporate the TMDLs into its current water quality management plan.

Dated: November 22, 2004.
Jane B. Watson,
Acting Director, Water Quality Protection Division, Region 6.

[FR Doc. 04-26481 Filed 11-30-04; 8:45 am]

BILLING CODE 6560-50-P